DEPARTMENT OF ENERGY

10 CFR Part 430

[Docket No. EERE-2012-BT-STD-0045]

RIN 1904-AD28

Energy Conservation Program: Energy Conservation Standards for Ceiling Fans

AGENCY: Office of Energy Efficiency and Renewable Energy, Department of Energy.

ACTION: Final rule; completion of review; confirmation of rulemaking.

SUMMARY: This document announces the completion of a review of the final rule amending energy conservation standards for ceiling fans, published on January 19, 2017, and confirms that compliance will remain as required with that January 19 final rule, without change.

DATES: The effective date of the rule amending 10 CFR part 430 published in the Federal Register at 82 FR 6826 on January 19, 2017, remains September 30, 2017. The compliance date of that rule remains January 21, 2020.

FOR FURTHER INFORMATION CONTACT:

Ms. Lucy deButts, U.S. Department of Energy, Office of Energy Efficiency and Renewable Energy, Building Technologies Office, EE-5B, 1000 Independence Avenue SW., Washington, DC 20585-0121. Telephone: (202) 287-1604. Email: ApplianceStandardsQuestions@ee.doe.gov.

Elizabeth Kohl, U.S. Department of Energy, Office of the General Counsel, GC-33, 1000 Independence Ave. SW., Washington, DC 20585-0121. Phone: (202) 586-7796. Email: Elizabeth.Kohl@hq.doe.gov.

SUPPLEMENTARY INFORMATION: On January 31, 2017, the United States Department of Energy (“DOE”) temporarily postponed the effective date of its final rule amending the energy conservation standards for ceiling fans published in the Federal Register on January 19, 2017. See 82 FR 8806. The January 31st rule temporarily postponed the effective date of the final rule by 60 days, starting from January 20, 2017. The temporary 60-day delay in effective date was necessary to give the newly appointed Secretary of Energy (Secretary) the opportunity for further review and consideration of new regulations. However, the Secretary was not confirmed and did not begin work in his position until March 3, 2017. Therefore, DOE further temporarily postponed the effective date of that energy conservation standards regulation until September 30, 2017, to allow the Secretary the opportunity to accomplish this task. See 82 FR 14427, Mar. 21, 2017.

The Secretary has completed his review of the energy conservation standards regulation for questions of fact, law, and policy, and determined that the rule will be implemented without change. In this notice, DOE confirms that the effective date of the final rule amending the energy conservation standards for ceiling fans remains September 30, 2017, and that the compliance date remains January 21, 2020, as originally published.

Issued in Washington, DC, on May 17, 2017.
Daniel R. Simmons,
Acting Assistant Secretary, Energy Efficiency and Renewable Energy.

[FR Doc. 2017-10633 Filed 5-23-17; 8:45 am]

BILLING CODE 6450-01-P